DEPARTMENT OF TRANSPORTATION

Federal Aviation Administration

14 CFR Part 39

[Docket No. FAA-2008-1360; Directorate Identifier 2008-NM-075-AD; Amendment 39-15791; AD 2009-02-01]

RIN 2120-AA64

Airworthiness Directives; Construcciones Aeronauticas, S.A. (CASA), Model C-212-DF Airplanes

AGENCY: Federal Aviation Administration (FAA), Department of Transportation (DOT).

ACTION: Final rule; request for comments.

SUMMARY: The FAA is adopting a new airworthiness directive (AD) for certain CASA Model C-212-DF airplanes. This AD requires a one-time conductivity inspection to determine the material used in manufacturing outer to center wing attachment fittings; and one-time inspections to detect cracks on affected fittings, and corrective action if necessary. This AD results from reports of cracks found in outer to center wing attachment fittings. We are issuing this AD to detect and correct cracks on the upper and lower fittings in both outer and center wings, which could result in reduced structural integrity of the airplane.

DATES: This AD becomes effective March 9, 2009.

The Director of the Federal Register approved the incorporation by reference of certain publications listed in the AD as of March 9, 2009.

We must receive comments on this AD by March 23, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact EADS-CASA, Military Transport Aircraft Division (MTAD), Integrated Customer Services (ICS), Technical Services, Avenida de Aragón 404, 28022 Madrid, Spain; telephone +34 91 585 55 84; fax +34 91 585 55 05; e-mail MTA.TechnicalService@casa.eads.net; Internet http://www.eads.net.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Shahram Daneshmandi, Aerospace Engineer, International Branch, ANM-116, Transport Airplane Directorate, FAA, 1601 Lind Avenue, SW., Renton, Washington 98057-3356; telephone 425-227-1112; fax 425-227-1149.

SUPPLEMENTARY INFORMATION:

Discussion

The European Aviation Safety Agency (EASA), which is the Technical Agent for the Member States of the European Community, notified us that an unsafe condition may exist on certain CASA Model C-212-DF airplanes. The EASA advises that cracks were discovered in outer to center wing attachment fittings during final assembly of a new production airplane and in some inspected airplanes already in service. The cracks were caused by a defective manufacturing process of the outer to center wing attachment fittings. This condition, if not detected and corrected, could result in reduced structural integrity of the airplane.

Relevant Service Information

CASA has issued Communication Letter COM 212-303, dated March 16, 2006. This communication letter describes procedures to determine the material used in the manufacture of outer to center wing attachment fittings.

CASA also has issued Communication Letter COM 212-301, Revision 1, dated March 4, 2006. This communication letter describes procedures for a high frequency eddy current inspection to detect cracks of the eight upper and lower fittings in both outer and center wings for both left-hand and right-hand sides of the airplane.

In addition, CASA has issued Communication Letter COM 212-302, Revision 1, dated March 17, 2006. This communication letter describes procedures for a low frequency eddy current inspection to detect cracks of the eight upper and lower fittings in both outer and center wings for both left-hand and right-hand sides of the airplane.

The EASA mandated the service information and issued emergency airworthiness directive (AD) 2006-0359-E, dated November 29, 2006 (referred to after this as “the MCAI”), to ensure the continued airworthiness of these airplanes in the European Union.

The service bulletins do not specify a method for repairing or replacing wing attachment fittings. This AD requires replacing cracked fittings using a method approved by the FAA or EASA (or its delegated agent). In light of the type of repair that would be required to address the unsafe condition, and consistent with existing bilateral airworthiness agreements, we have determined that, for this AD, a repair approved by the FAA or EASA (or its delegated agent) is acceptable for compliance with this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined an unsafe condition exists and is likely to exist or develop on other products of the same type design.

Therefore, we are issuing this AD to require determination of the material used in manufacturing outer to center wing attachment fittings; and one-time inspections to detect cracks on affected fittings, and corrective action if necessary. This AD requires accomplishing the actions specified in the service information described previously, except as discussed below.

Difference Between This AD and the MCAI

The compliance time specified in the EASA airworthiness directive is the effective date of the MCAI. We have determined that a compliance time of 10 flight hours is appropriate and will provide an acceptable level of safety.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Table—Estimated Costs
Action | Work hours | Average labor rate per hour | Parts cost | Cost per airplane
Inspection | 20 | $80 | None | $1,600

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-1360; Directorate Identifier 2008-NM-075-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2009-02-01 Construcciones Aeronauticas, S.A. (CASA): Amendment 39-15791. Docket No. FAA-2008-1360; Directorate Identifier 2008-NM-075-AD.

Effective Date

(a) This AD becomes effective March 9, 2009.

Affected ADs

(b) None.

Applicability

(c) This AD applies to CASA Model C-212-DF airplanes, certificated in any category, serial numbers 444 through 477, except for those airplanes on which CASA Alert All Operator Letter AOL 212-010, Revision 2, dated March 17, 2005, has been done on both upper and lower fittings in both outer and center wings for both left-hand and right-hand sides of the airplane.

Unsafe Condition

(d) This AD results from reports of cracks found in outer to center wing attachment fittings. We are issuing this AD to detect and correct cracks on the upper and lower fittings in both outer and center wings, which could result in reduced structural integrity of the airplane.

Compliance

(e) You are responsible for having the actions required by this AD performed within the compliance times specified, unless the actions have already been done.

Inspection

(f) Within 10 flight hours after the effective date of this AD, do a high or low frequency eddy current inspection, as applicable, to determine the material used in the eight upper and lower fittings in both outer and center wings for both left-hand and right-hand sides of the airplane, in accordance with CASA Communication Letter COM 212-303, dated March 16, 2006.

(1) If all fittings are verified to be made of 2024-T42 (L-3140-T42) alloy, no further action is required by this AD.

(2) For any fitting verified to be made of 7050-T7451 (L-3767-T7451) alloy, before further flight, perform high or low frequency eddy current inspections, as applicable, for cracks on the eight upper and lower fittings in both outer and center wings for both left-hand and right-hand sides of the airplane, in accordance with CASA Communication Letter COM 212-301, Revision 1, dated March 4, 2006; and CASA Communication Letter COM 212-302, Revision 1, dated March 17, 2006. If any crack is detected, before further flight, replace the affected fitting using a method approved by the Manager, International Branch, ANM-116, Transport Airplane Directorate, FAA; or the European Aviation Safety Agency (EASA) (or its delegated agent).

Alternative Methods of Compliance (AMOCs)

(g) The Manager, International Branch, ANM-116, FAA, has the authority to approve AMOCs for this AD, if requested using the procedures found in 14 CFR 39.19. Send information to ATTN: Shahram Daneshmandi, Aerospace Engineer, International Branch, ANM-116, Transport Airplane Directorate, FAA, 1601 Lind Avenue, SW., Renton, Washington 98057-3356; telephone 425-227-1112; fax 425-227-1149. Before using any approved AMOC on any airplane to which the AMOC applies, notify your appropriate principal inspector (PI) in the FAA Flight Standards District Office (FSDO), or lacking a PI, your local FSDO.

Related Information

(h) EASA airworthiness directive 2006-0359-E, dated November 29, 2006, also addresses the subject of this AD.

Material Incorporated by Reference

(i) You must use the service information contained in Table 1 of this AD to do the actions required by this AD, as applicable, unless the AD specifies otherwise.

(1) The Director of the Federal Register approved the incorporation by reference of these documents in accordance with 5 U.S.C. 552(a) and 1 CFR part 51.

(2) For service information identified in this AD, contact EADS-CASA, Military Transport Aircraft Division (MTAD), Integrated Customer Services (ICS), Technical Services, Avenida de Aragón 404, 28022 Madrid, Spain; telephone +34 91 585 55 84; fax +34 91 585 55 05; e-mail MTA.TechnicalService@casa.eads.net; Internet http://www.eads.net.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Table 1—Material Incorporated by Reference
Service information | Revision level | Date
CASA Communication Letter COM 212-301 | 1 | March 4, 2006.
CASA Communication Letter COM 212-302 | 1 | March 17, 2006.
CASA Communication Letter COM 212-303 | Original | March 16, 2006.

Issued in Renton, Washington, on December 28, 2008.
Linda Navarro,
Acting Manager, Transport Airplane Directorate, Aircraft Certification Service.

[FR Doc. E9-3261 Filed 2-19-09; 8:45 am]

BILLING CODE 4910-13-P